DEPARTMENT OF TRANSPORTATION

National Highway Traffic Safety Administration

Research and Development Programs Meeting

AGENCY: National Highway Traffic Safety Administration, DOT.

ACTION: Notice.

SUMMARY: This notice announces a public meeting at which NHTSA will describe and discuss specific research and development projects on the topic of research test procedures for measurement of vehicle rollover propensity.

DATES AND TIMES: The National Highway Traffic Safety Administration will hold a public meeting devoted primarily to presentations on research test procedures for measurement of vehicle rollover propensity on Thursday, March 14, 2002, beginning at 1:30 p.m. and ending at approximately 5:00 p.m. Questions may be submitted in advance regarding the Agency's research and development projects, and they are not limited to the topic under discussion at the March 14, 2002, meeting. They must be submitted in writing by Tuesday, March 5, 2002, to the address given below. If sufficient time is available, questions received after the March 5 date will be answered at the meeting during the discussion period. The individual, group, or company asking a question does not have to be present for the question to be answered. A consolidated list of answers to questions submitted by March 5 will be available at the meeting and will be mailed to requesters after the meeting.

ADDRESSES: The meeting will be held at the Best Western Gateway International Hotel, 9191 Wickham, Romulus, Michigan, telephone number (734) 728-2800. Questions for the March 14, 2002, meeting relating to the Agency's research and development programs should be submitted to the Office of the Associate Administrator for Research and Development, NRD-01, National Highway Traffic Safety Administration, Room 6206, 400 Seventh Street, S.W., Washington, DC 20590. The fax number is (202) 366-5930.

FOR FURTHER INFORMATION CONTACT: Rita Gibbons, Staff Assistant, Office of Research and Development, 400 Seventh Street, S.W., Washington, DC 20590. Telephone: (202) 366-4862. Fax number: (202) 366-5930. E-mail: rgibbons@nhtsa.dot.gov.

SUPPLEMENTARY INFORMATION: In recent years, since April 1993, NHTSA has provided detailed information about its research and development programs in presentations at a series of public meetings. The purpose is to make available more complete and timely information regarding the Agency's research and development programs. This is the thirty-first meeting in that series, and it will be held on Thursday, March 14, 2002, at the Best Western Gateway International Hotel, 9191 Wickham, Romulus, Michigan.

Before the meeting, NHTSA will publish a notice with an agenda listing the scheduled presentations and presenting organizations. The agenda can also be obtained by calling or faxing the request to the telephone numbers listed in this notice, through the E-mail address listed in this notice, or from NHTSA's Web site at URL http://www.nhtsa.dot.gov/nhtsa/announce/meetings/.

Additionally, if any interested parties would like to make a presentation regarding technical issues concerning NHTSA's rollover research program, information concerning the proposed topic and speaker should be submitted in writing by 5:00 p.m. on March 5, 2002, to the Office of the Associate Administrator for Research and Development, NRD-01, National Highway Traffic Safety Administration, Room 6206, 400 Seventh Street, S.W., Washington, DC 20590. The fax number is (202) 366-5930.

Separately, questions regarding research projects that have been submitted in writing not later than 5:00 p.m. on March 5, 2002, will be answered. Copies of materials handed out at the meeting and answers to the questions submitted for response at the meeting will be available for public inspection in the DOT Docket in Washington, DC, within 3 weeks after the meeting. Copies of this material will then be available at ten cents a page upon request to DOT Docket, Room PL-401, 400 Seventh Street, S.W., Washington, DC 20590. The DOT Docket is open to the public from 10:00 a.m. to 5:00 p.m. The handouts and answers to the questions will also be available on NHTSA's Web site at http://www-nrd.nhtsa.dot.gov/departments/nrd-01/presentations/NRDmtgs.html.

NHTSA will provide technical aids to participants as necessary, during the Research and Development Programs Meeting. Thus, any person desiring the assistance of “auxiliary aids” (e.g., sign-language interpreter, telecommunication devices for deaf persons (TTDs), readers, taped texts, Braille materials, or large print materials and/or a magnifying device), please contact Rita Gibbons by telephone on (202) 366-4862, by telefax on (202) 366-5930, or by E-mail at rgibbons@nhtsa.dot.gov by 5:00 p.m. by March 5, 2002.

Should it be necessary to cancel the meeting due to inclement weather or to any other emergencies, a decision to cancel will be made as soon as possible and posted immediately on NHTSA's Web site URL http://www.nhtsa.dot.gov/nhtsa/announce/meetings/. If you do not have access to the Web site, you may call for information at the contact listed below and leave your telephone or telefax number. You will be called only if the meeting is postponed or canceled.

Issued: February 20, 2002.
H. Keith Brewer,
Acting Associate Administrator for Research and Development.

[FR Doc. 02-4476 Filed 2-25-02; 8:45 am]

BILLING CODE 4910-59-P